DEPARTMENT OF HEALTH AND HUMAN SERVICES

Administration for Community Living

[OMB No. 0985-0007]

Agency Information Collection Activities; Proposed Collection; Public Comment Request; Annual Reporting Requirements for the Older Americans Act Title VI Grant Program

AGENCY: Administration for Community Living, HHS.

ACTION: Notice

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice.

This Extension without Change (ICR Ext) solicits comments on the information collection requirements related to the Program Performance Reports for Title VI grants under the Older Americans Act.

DATES: Comments on the collection of information must be submitted electronically by 11:59 p.m. (EST) or postmarked by May 13, 2019.

ADDRESSES: Submit electronic comments on the collection of information to: Cynthia LaCounte, Cynthia.LaCounte@acl.hhs.gov. Submit written comments on the collection of information to Administration for Community Living, Washington, DC 20201, Attention: Cynthia LaCounte.

FOR FURTHER INFORMATION CONTACT: Cynthia LaCounte, Director, Office of American Indian, Alaskan Native and Native Hawaiian Programs, Administration for Community Living, Washington, DC 20416, 202-795-7380, Cynthia.LaCounte@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party.

Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The purpose of the Program Performance Report data collection provides a data base for ACL to: (1) Monitor program achievement of performance objective; (2) establish program policy and direction; and (3) prepare responses to Congress, the OMB, the General Accounting Office, other Federal Departments, and public and private agencies as required by the OAA Title II sections 202(f)(1) and 207. This data collection will also support ACL in tracking performance outcomes and efficiency measures with respect to the annual and long-term performance targets established in compliance with the Government Performance Results Modernization Act (GPRAMA). If ACL did not collect the program data herein requested, it would not be able to monitor and manage total program progress as expected, nor develop program policy options directed toward assuring the most effective use of limited Title VI funds.

The proposed data collection tools may be found on the ACL website for review at https://www.acl.gov/about-acl/public-input.

Estimated Program Burden

ACL estimates the burden associated with this collection of information as follows: 274 tribal grantees respond annually and it will take 2.5 hours to complete the Title VI report for each grantee for a total of 685 hours for all tribal grantees to complete the form.

Respondent/data collection activity | Number of respondents | Responses per respondent | Hours per response | Annual burden hours
Title VI Part A, B and C | 274 | 1 | 2.5 | 685
Total | 274 | 1 | 2.5 | 685

Dated: March 5, 2019.
Mary Lazare,
Principal Deputy Administrator.

[FR Doc. 2019-04734 Filed 3-13-19; 8:45 am]

BILLING CODE 4154-01-P